DEPARTMENT OF TRANSPORTATION

Federal Highway Administration

Notice of Intent To Prepare an Environmental Impact Statement; USH 51, IH 39/90 East of Stoughton to USH 12/18 (Madison South Beltline Highway) North of McFarland; Dane County, WI

AGENCY: Federal Highway Administration (FHWA), DOT.

ACTION: Notice of intent to prepare an environmental impact statement.

SUMMARY: The FHWA is issuing this notice to advise the public that an Environmental Impact Statement (EIS) will be prepared for proposed transportation improvements in the United States Highway (US) 51 corridor in Dane County, Wisconsin generally between Interstate 39/90 east of the City of Stoughton and US 12/18 (Madison South Beltline Highway). The EIS is being prepared in conformance with 40 CFR 1500, 223 CFR 771, and FHWA polices.

SUPPLEMENTARY INFORMATION: The FHWA, in cooperation with the Wisconsin Department of Transportation, will prepare an Environmental Impact Statement (EIS) on proposed improvements to address safety, operational, and capacity concerns on approximately 10-miles of US 51 between Interstate 39/90 east of the City of Stoughton to US 12/18 (Madison South Beltline Highway), north of the Village of McFarland. The study will also examine a bypass in Stoughton, as well as potential operational improvements on existing US 51 in Stoughton. The study will consider improvements on highways other than US 51 that would address the needs of travelers between the southeast portion of Dane County and the Madison Urban area, as alternatives to major capacity improvements on US 51. The objective of this project is to address existing and future transportation demand and safety concerns as identified in the US 51 Needs Assessment Report, and to identify land that may need to be preserved for future transportation improvements.

FHWA's decision to prepare a draft EIS is based on the initial environmental assessment which indicates the proposed action is likely to have significant impacts on the environment including wetlands. The draft EIS will evaluate the social, economic, and environmental impacts of the alternatives including No Build, Transportation System Management (Low Build), and Full Build improvements within the existing US 51 highway corridor, and other Full Build improvements on other regional highway corridors.

Information describing the proposed action and soliciting comments will be sent to appropriate Federal, State, Native American Tribes, local agencies, private agencies and organizations, and other parties who have expressed or are known to have an interest in this proposal. Opportunities for agencies to become participating and/or cooperating agencies, and to participate in project development activities, has been and will continue to be offered in compliance with 40 CFR 1500 and 23 CFR 771, as well as other FHWA policies.

During the development of the project Needs Assessment, coordination was conducted with State and local agencies, as well as extensive coordination with local officials. A Policy Advisory Committee consisting of local officials also met throughout the Needs Assessment process. A public information meeting was conducted in 2004 to present the findings of the project Needs Assessment. A public workshop was later held in 2005 to solicit ideas from the public about improvements to address the needs identified in the Needs Assessment process.

Between January 2006 and November 2011, several coordination meetings were held with State and Federal resource agencies, and local officials, to discuss Purpose and Need, other highway corridors to be studies, and alternatives to be evaluated. Between May 2006 and April 2011, several public information meetings were held to obtain public feedback on potential alternatives and improvement concepts. WisDOT has used feedback from those meetings and other data to develop proposed improvement concepts which will be incorporated into alternatives for further study.

Continued coordination with local, State, and Federal agencies and officials, including Native American Tribes and other interested parties, is planned throughout the environmental analysis process. The Policy Advisory Committee will continue to meet regularly during the EIS process.

Public information meetings will be held while the draft EIS is being written and a public hearing will follow completion of the draft EIS to address the impacts of each alternative. Public notice will be given of the time and place of the public information meetings and public hearing. The draft EIS will be available for public and agency review and comment prior to the public hearing. To ensure that the full range of issues related to this proposed action is addressed, and all substantive issues are identified, comments and suggestions are invited from all interested parties. Comments or questions concerning this proposed action should be directed to FHWA or WisDOT at the addresses provided below.

(Catalog of Federal Domestic Assistance Program Number 20.205, Highway Research, Planning and Construction. The regulations implementing Executive Order 12372 regarding intergovernmental consultation on Federal programs and activities apply to this program.)

This study shall comply with Title VI of the Civil Rights Act and of Executive Order 12898, which prohibits discrimination on the basis of race, color, age, sex, or country of national origin in the implementation of this action. It is also Federal and State policy that no group of people bears the negative consequences of this action in a disproportionately high and adverse manner without adequate mitigation.

FOR FURTHER INFORMATION CONTACT: Mr. Johnny Gerbitz, Field Operations Engineer, Federal Highway Administration, City Center West, 525 Junction Road, Suite 8000, Madison, Wisconsin 53717; Telephone: (608) 829-7500. You may also contact Mr. Daniel Scudder, Chief, Environmental Services Section, Bureau of Technical Services, Wisconsin Department of Transportation, P.O. Box 7965, Madison, Wisconsin 53707-7965: Telephone: (608) 267-3615.

An electronic copy of this document may be downloaded from the Government Printing Office's Electronic Bulletin Board Service at (202) 512-1661 by using a computer, modem and suitable communications software. Internet users may reach the Office of Federal Register's home page at: http://www.archives.gov/ and the Government Printing Office's database at: http://www.gpoaccess.gov/nara/index.html.

Authority: 23 U.S.C. 315; 49 CFR 1.48.

Issued on: January 23, 2011.
Johnny M. Gerbitz,
Field Operations Engineer, Federal Highway Administration, Madison, Wisconsin.

[FR Doc. 2012-1864 Filed 1-31-12; 8:45 am]

BILLING CODE P